SMALL BUSINESS ADMINISTRATION

[Disaster Declaration # 10068 and # 10069

American Samoa Disaster # AS-00001 Disaster Declaration

AGENCY: U.S. Small Business Administration.

ACTION: Notice.

SUMMARY: This is a Notice of the Presidential declaration of a major disaster for the Territory of American Samoa (FEMA—1582—DR), dated 03/03/2005.

Incident: Tropical Cyclone Olaf, including High Winds, High Surf, and Heavy Rainfall.

Incident Period: 02/15/2005 through 02/21/2005.

DATES: Effective Date: 03/03/2005.

Physical Loan Application Deadline Date: 05/02/2005.

EIDL Loan Application Deadline Date: 12/05/2005.

ADDRESSES: Submit completed loan applications to: U.S. Small Business Administration, Disaster Area Office 4, P.O. Box 419004, Sacramento, CA 95841.

FOR FURTHER INFORMATION CONTACT: A. Escobar, Office of Disaster Assistance, U.S. Small Business Administration, 409 3rd Street, Suite 6050, Washington, DC 20416.

SUPPLEMENTARY INFORMATION: Notice is hereby given that as a result of the President's major disaster declaration for Public Assistance Only on February 18, 2005, and subsequent amendment adding Individual Assistance on 03/03/2005, applications for disaster loans may be filed at the address listed above or other locally announced locations.

The following areas have been determined to be adversely affected by the disaster:

The Interest Rates are:

Territory of American Samoa, Limited to Manu'a Islands
| Percent
Homeowners with Credit Available Elsewhere | 5.875
Homeowners without Credit Available Elsewhere | 2.937
Businesses with Credit Available Elsewhere | 6.000
Businesses & Small Agricultural Cooperatives without Credit Available Elsewhere | 4.000
Other (Including Non-Profit Organizations) with Credit Available Elsewhere | 4.750
Businesses and Non-Profit Organizations without Credit Available Elsewhere | 4.000

The number assigned to this disaster for physical damage is 100688 and for economic injury is 100690.

(Catalog of Federal Domestic Assistance Numbers 59002 and 59008)

Herbert L. Mitchell,
Associate Administrator for Disaster Assistance.

[FR Doc. 05-5305 Filed 3-16-05; 8:45 am]

BILLING CODE 8025-01-P